DEPARTMENT OF COMMERCE

National Oceanic and Atmospheric Administration

RIN 0648-XF430

Endangered and Threatened Species; Initiation of 5-Year Review for the Endangered Gulf of Maine Distinct Population Segment of Atlantic Salmon

AGENCY: National Marine Fisheries Service (NMFS), National Oceanic and Atmospheric Administration (NOAA), Commerce.

ACTION: Notice of initiation of 5-year review; request for information.

SUMMARY: We, NMFS, announce our intent to conduct a 5-year review for the Gulf of Maine distinct population segment (DPS) of Atlantic salmon (Salmo salar) under the Endangered Species Act of 1973, as amended (ESA). The DPS is listed as endangered under the ESA. We are required by the ESA to conduct 5-year reviews to ensure that the listing classifications of the species are accurate. The 5-year review must be based on the best scientific and commercial data available at the time of the review. We request submission of any such information on the Gulf of Maine DPS of Atlantic salmon, particularly information on the status, threats and recovery of the species that has become available since the final listing determination in 2009.

DATES: To allow us adequate time to conduct this review, we must receive your information no later than July 20, 2017. However, we will continue to accept new information about Atlantic salmon at any time.

ADDRESSES: Submit your comments by including NOAA-NMFS-2017-0050, by either of the following methods:

• Federal e-Rulemaking Portal. Go to www.regulations.gov/!docketDetail;D=[NOAA-NMFS-2017-0050], Click the “Comment Now!” icon, complete the required fields, and enter or attach your comments.

• Mail: Submit written information to Dan Kircheis, NMFS, Greater Atlantic Regional Fisheries Office, Maine Field Station, 17 Godfrey Drive, Orono, Maine 04473

Instructions: We may not consider comments if they are sent by any other method, to any other address or individual, or received after the end of the specified period. All comments received are a part of the public record and we will generally post for public viewing on www.regulations.gov without change. All personal identifying information (e.g., name, address, etc.), confidential business information, or otherwise sensitive or protected information submitted voluntarily by the sender is publicly accessible. We will accept anonymous comments (enter “N/A” in the required fields if you wish to remain anonymous).

FOR FURTHER INFORMATION CONTACT: Dan Kircheis at the above address, by phone at 207-866-7320 or Dan.Kircheis@noaa.gov or Julie Crocker 978-282-8480 or Julie.Crocker@noaa.gov.

SUPPLEMENTARY INFORMATION: The Gulf of Maine DPS of Atlantic salmon (Salmo salar) was listed as endangered under the ESA on June 19, 2009 (74 FR 29344) by NMFS and the U.S. Fish and Wildlife Service (the Services). The Services have agreed that NMFS will serve as the lead agency for this 5-year review. Section 4(c)(2)(A) of the ESA requires that we conduct a review of listed species at least once every five years. On the basis of such reviews, under section 4(c)(2)(B) we determine whether a species should be delisted or reclassified from endangered to threatened or from threatened to endangered. Delisting a species must be supported by the best scientific and commercial data available and only considered if such data substantiates that the species is neither endangered nor threatened for one or more of the following reasons: (1) The species is considered extinct; (2) the species is considered to be recovered; or (3) the original data available when the species was listed, or the interpretation of such data, were in error (see 50 CFR 424.11(d)). The ESA implementing regulations at 50 CFR 424.21 require that we publish a notice in the Federal Register announcing those species currently under active review. This notice announces our active review of the Gulf of Maine DPS of Atlantic salmon, currently listed as endangered.

Background information about this species, including the endangered listing, is available on the NMFS Greater Atlantic Regional Fisheries Office Web site: https://www.greateratlantic.fisheries.noaa.gov/protected/atlsalmon/.

Determining if a Species Is Threatened or Endangered

Section 4(a)(1) of the ESA requires that we determine whether a species is endangered or threatened based on one or more of the five following factors: (1) The present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made on the basis of the best scientific and commercial data available after taking into account those efforts, if any, being made by any State or foreign nation, to protect such species.

Application of the DPS Policy

In the application of the DPS Policy, we are responsible for determining whether species, subspecies, or DPSs of marine and anadromous species are threatened or endangered under the ESA. For Atlantic salmon, we use the joint U.S. Fish and Wildlife Service-NMFS DPS policy (61 FR 4722; February 7, 1996) in identifying the appropriate taxonomic unit for listing consideration. Under this policy, a DPS must be discrete from other conspecific populations, and it must be significant to its taxon. A group of organisms is discrete if physical, physiological, ecological or behavioral factors make it markedly separate from other populations of the same taxon. Under the DPS policy, if a population group is determined to be discrete, the agency must then consider whether it is significant to the taxon to which it belongs. Considerations in evaluating the significance of a discrete population include: (1) Persistence of the discrete population in an unusual or unique ecological setting for the taxon; (2) evidence that the loss of the discrete population segment would cause a significant gap in the taxon's range; (3) evidence that the discrete population segment represents the only surviving natural occurrence of a taxon that may be more abundant elsewhere outside its historical geographic range; or (4) evidence that the discrete population has marked genetic differences from other populations of the species.

Public Solicitation of New Information

To ensure that the 5-year review is complete and based on the best scientific and commercial data, we are soliciting new information from the public, governmental agencies, Tribes, the scientific community, industry, environmental entities, and any other interested parties concerning the status of the Gulf of Maine DPS. The 5-year review will consider the best scientific and commercial data that has become available since the listing determination for the Gulf of Maine DPS in June 2009. Our Northeast Fisheries Science Center will assist the Greater Atlantic Regional Fisheries Office in gathering and analyzing this information. Categories of requested information include: (1) Population abundance; (2) population productivity; (3) changes in species distribution or population spatial structure; (4) genetics or other indicators of diversity; (5) changes in habitat conditions and associated limiting factors and threats; (6) conservation measures that have been implemented that benefit the species, including monitoring data demonstrating the effectiveness of such measures in addressing identified limiting factors or threats; (7) data concerning the status and trends of identified limiting factors or threats; (8) information that may affect determinations regarding the composition of the DPS; (9) other new information, data, or corrections including, but not limited to, taxonomic or nomenclatural changes, identification of erroneous information in the previous listing determination, and improved analytical methods for evaluating extinction risk.

If you wish to provide information for this 5-year review, you may submit your information and materials electronically via email (see ADDRESSES section). We request that all information be accompanied by supporting documentation such as maps, bibliographic references, or reprints of pertinent publications. We also would appreciate

the submitter's name, address, and any association, institution, or business that the person represents; however, anonymous submissions will be accepted.

Authority: 16 U.S.C. 1531 et seq.

Dated: June 15, 2017.
Angela Somma,
Chief, Endangered Species Division, Office of Protected Resources, National Marine Fisheries Service.

[FR Doc. 2017-12789 Filed 6-19-17; 8:45 am]

BILLING CODE 3510-22-P